ENVIRONMENTAL PROTECTION AGENCY

[FRL-6846-7]

Regulatory Reinvention (XL) Pilot Projects

AGENCY: Environmental Protection Agency (EPA).

ACTION: Notice of availability of the Project XL Proposed Final Project Agreement: Autoliv XL Project.

SUMMARY: EPA is requesting comments on a proposed Project XL Final Project Agreement (FPA) for Autoliv Automobile Safety Products, U.S.A. (hereafter “Autoliv”). The FPA is a voluntary agreement developed collaboratively by Autoliv, the State of Utah, and EPA. Project XL, announced in the Federal Register on May 23, 1995 (60 FR 27282), gives regulated entities the flexibility to develop alternative strategies that will replace or modify specific regulatory or procedural requirements on the condition that they produce greater environmental benefits.

In the draft FPA, Autoliv proposes to develop, evaluate and implement, an alternative to open burning of certain wastes generated at its facility. This waste is reactive only, and contains no appreciable levels of hazardous constituents. These reactive hazardous wastes are presently treated through open burning at a RCRA Interim Status facility.

Autoliv currently operates a $3 million Metals Recovery Facility (MRF) designed to recover aluminum and steel from inflator units containing live pyrotechnic material as well as previously fired units. The MRF is capable of recovering 2000 pounds per hour of recyclable aluminum and steel from off-spec commercial inflator units and their components while minimizing the waste to the environment. Autoliv's XL Project proposes to process small volumes of its waste pyrotechnic materials within the MRF rather than sending the materials to a RCRA regulated treatment, storage or disposal facility (TSDF) for open burning. Specifically, the company is asking EPA to grant a conditional exemption from the definition of hazardous waste for the pyrotechnic materials processed through the MRF. The MRF has an extensive air pollution train which is capable of capturing the particulate emissions produced by the waste pyrotechnic materials.

The proposed project will demonstrate that it is feasible to utilize existing equipment to process certain hazardous wastes in a more efficient and environmentally sound manner, under a more flexible regulatory framework. EPA anticipates that this project will provide information on how to develop alternative approaches to handling waste. This information would be useful to EPA in learning more about alternative treatment approaches for airbag manufacturing wastestreams. The company is also committing to reinvest percentage of the savings incurred through this project into additional pollution prevention activities at their facility. The type and extent of these activities will be specified after the first year's cost savings are calculated.

DATES: The period for submission of comments ends on August 21, 2000.

ADDRESSEES: To obtain a copy of the draft Final Project Agreement, contact: Mary Byrne, 999 18th Street, Suite 500, Denver, CO 80202-2466, or Ted Cochin, U.S. EPA, 1200 Pennsylvania Ave NW., (1802), Washington, DC 20460. The documents are also available via the Internet at the following location: “http://www.epa.gov/ProjectXL”. In addition, public files on the Project are located at EPA Region 8 in Denver. Questions to EPA regarding the documents can be directed to Mary Byrne at (303) 312-6491 or Ted Cochin at (202) 260-0880. Additional information on Project XL, including documents referenced in this notice, other EPA policy documents related to Project XL, application information, and descriptions of existing XL projects and proposals, is available via the Internet at “http://www.epa.gov/ProjectXL”.

FOR FURTHER INFORMATION CONTACT: To obtain a copy of the draft Final Project Agreement, contact: Mary Byrne, 999 18th Street, Suite 500, Denver, CO 80202-2466, or Ted Cochin, U.S. EPA, 1200 Pennsylvania Avenue NW., (1802), Washington, DC 20460. The documents are also available via the Internet at the following location: “http://www.epa.gov/ProjectXL”. In addition, public files on the Project are located at EPA Region 8 in Denver. Questions to EPA regarding the documents can be directed to Mary Byrne at (303) 312-6491 or Ted Cochin at (202) 260-0880. Additional information on Project XL, including documents referenced in this notice, other EPA policy documents related to Project XL, application information, and descriptions of existing XL projects and proposals, is available via the Internet at “http://www.epa.gov/ProjectXL”.

Dated: July 26, 2000.
Jay Benforado,
Acting Associate Administrator, Office of Policy, Economics and Innovation.

[FR Doc. 00-20537 Filed 8-11-00; 8:45 am]

BILLING CODE 6560-50-P